DEPARTMENT OF THE TREASURY

Office of Thrift Supervision

[AC-49: OTS Nos. 08156 and H4736]

Madison Square Federal Savings Bank, Baltimore, MD; Approval of Conversion Application

Notice is hereby given that on August 12, 2010, the Office of Thrift Supervision approved the application of Madison Square Federal Savings Bank, Baltimore, Maryland, to convert to the stock form of organization. Copies of the application are available for inspection by appointment (phone number: (202) 906-5922 or e-mail: public.info@ots.treas.gov) at the Public Reading Room, 1700 G Street, NW., Washington, DC 20552, and the OTS Southeast Regional Office, 1475 Peachtree Street, NE., Atlanta, Georgia 30309.

Dated: August 13, 2010.
By the Office of Thrift Supervision.
Sandra E. Evans,
Federal Register Liaison.

[FR Doc. 2010-20481 Filed 8-18-10; 8:45 am]

BILLING CODE 6720-01-M